DEPARTMENT OF TRANSPORTATION

Federal Aviation Administration

14 CFR Part 39

[Docket No. 2001-NE-47-AD; Amendment 39-13089; AD 2003-06-02]

RIN 2120-AA64

Airworthiness Directives; Hartzell Propeller Inc. Model HC-C2Y(K,R)-1BF/F8477-4 Propellers

AGENCY: Federal Aviation Administration, DOT.

ACTION: Final rule.

SUMMARY: This amendment adopts a new airworthiness directive (AD), that is applicable to certain Hartzell Propeller Inc. model HC-C2Y(K,R)-1BF/F8477-4 propellers with TKS (Aircraft De-icing) Ltd. anti-ice boots that were installed by SOCATA-Groupe AEROSPATIALE, the aircraft manufacturer, using TKS Ltd. Procedure P232, Specification for the Attachment of Propeller Overshoes. This amendment requires removal of the anti-ice boots, inspection and rework of the anti-ice boot area of the propeller blades, and installation of new anti-ice boots. This amendment is prompted by a report of TKS (Aircraft De-icing) Ltd. anti-ice boots on the blades of a model HC-C2Y(K,R)-1BF/F8477-4 propeller that were installed by SOCATA-Groupe AEROSPATIALE using processes that could lead to blade corrosion and failure. The actions specified by this AD are intended to prevent propeller blade separation, damage to the airplane, and possible loss of the airplane.

DATES: Effective April 29, 2003. The incorporation by reference of certain publications listed in the regulations is approved by the Director of the Federal Register as of April 29, 2003.

ADDRESSES: The service information referenced in this AD may be obtained from Hartzell Propeller Inc. Technical Publications Department, One Propeller Place, Piqua, OH 45356; telephone (937) 778-4200; fax (937) 778-4391. This information may be examined, by appointment, at the Federal Aviation Administration (FAA), New England Region, Office of the Regional Counsel, 12 New England Executive Park, Burlington, MA; or at the Office of the Federal Register, 800 North Capitol Street, NW., suite 700, Washington, DC.

FOR FURTHER INFORMATION CONTACT: Tomaso DiPaolo, Aerospace Engineer, Chicago Aircraft Certification Office, FAA, Small Airplane Directorate, 2300 East Devon Avenue, Des Plaines, IL 60018; telephone (847) 294-7031; fax (847) 294-7834.

SUPPLEMENTARY INFORMATION: A proposal to amend part 39 of the Federal Aviation Regulations (14 CFR part 39) to include an AD that is applicable to certain Hartzell Propeller Inc. model HC-C2Y(K,R)-1BF/F8477-4 propellers with TKS (Aircraft De-icing) Ltd. anti-ice boots that were installed by SOCATA-Groupe AEROSPATIALE, the aircraft manufacturer, using TKS Ltd. Procedure P232, Specification for the Attachment of Propeller Overshoes was published in the Federal Register on November 21, 2002 (67 FR 70185). That action proposed to require removal of the anti-ice boots, inspection and rework of the anti-ice boot area of the propeller blades, and installation of new anti-ice boots in accordance with Hartzell Propeller Inc. Alert Service Bulletin (ASB) HC-ASB-61-251, dated April 10, 2001.

Comments

Interested persons have been afforded an opportunity to participate in the making of this amendment. No comments were received on the proposal or the FAA's determination of the cost to the public. The FAA has determined that air safety and the public interest require the adoption of the rule as proposed.

Economic Analysis

There are approximately 750 Hartzell Propeller Inc. model HC-C2Y(K,R)-1BF/F8477-4 propellers with TKS (Aircraft De-icing) Ltd. anti-ice boots installed by SOCATA-Groupe AEROSPATIALE, the aircraft manufacturer, using TKS Ltd. Procedure P232, Specification for the Attachment of Propeller Overshoes. The FAA estimates that 230 propellers installed on airplanes of U.S. registry would be affected by this AD. The FAA also estimates that it would take approximately 10 work hours per propeller to accomplish the actions, and that the average labor rate is $60 per work hour. Required parts would cost approximately $900 per propeller. Based on these figures, the total cost of the AD to U.S. operators is estimated to be $345,000.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action (1) is not a “significant regulatory action” under Executive Order 12866; (2) is not a “significant rule” under the DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-06-02 Hartzell Propeller Inc.: Amendment 39-13089. Docket No. 2001-NE-47-AD.

Applicability: This airworthiness directive (AD) is applicable to Hartzell Propeller Inc. model HC-C2Y(K,R)-1BF/F8477-4 propellers with TKS (Aircraft De-icing) Ltd. anti-ice boots that were installed by SOCATA-Groupe AEROSPATIALE, the aircraft manufacturer, using TKS Ltd. Procedure P232, Specification for the Attachment of Propeller Overshoes. These propellers are installed on, but not limited to American Champion 8GCBC, Cessna 170 series, 172 series, 175 series, Piper PA-18 series, Sky International Inc. (Husky) A-1 (previous owners were Christen Industries; Aviat, Inc.; White International, LTD.), and SOCATA-Groupe AEROSPATIALE TB-20 and TB-21 airplanes.

Note 1: This AD applies to each propeller identified in the preceding applicability provision, regardless of whether it has been modified, altered, or repaired in the area subject to the requirements of this AD. For propellers that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Compliance with this AD is required as indicated, unless already done.

To prevent propeller blade separation, damage to the airplane, and possible loss of the airplane, do the following:

(a) For propellers that have been overhauled after the installation of TKS (Aircraft De-icing) Ltd. Anti-ice boots, and have had the anti-ice boots re-installed using Hartzell Manual 133C (ATA 61-13-33) “Aluminum Blade Overhaul”, AS&T Procedure 4700INS, or other approved procedures (excluding TKS Procedure P232) no further action is required.

(b) For propellers that have had the anti-ice boots installed using the TKS Procedure P232, but have not had anti-ice boots re-installed using Hartzell Manual 133C (ATA 61-13-33) “Aluminum Blade Overhaul”, AS&T Procedure 4700INS, or other approved procedures (excluding TKS Procedure P232), remove anti-ice boots, inspect and rework anti-ice boot areas of propeller blades, and install new anti-ice boots in accordance with paragraph 3 of the Accomplishment Instructions of Hartzell Propeller Inc. Alert Service Bulletin (ASB) HC-ASB-61-251, dated April 10, 2001 using the compliance schedule in Table 1 as follows:

Table 1.—Compliance Schedule
For propellers with: | Replace anti-ice boots:
(1) Fewer than 500 hours time-in-service (TIS) and less than 3 years time-since-new (TSN) | Within 200 hours TIS from the effective date of this AD, not to exceed 600 hours TSN, or prior to accumulating 4 years TSN, whichever occurs first.
(2) Five hundred or more hours TIS, or 3 years or more TSN but less than 6 years TSN | Within 100 hours TIS, or 1 year from the effective date of this AD, whichever occurs first.
(3) Six years or more TSN | Within 50 hours TIS, or within 6 months from the effective date of this AD, whichever occurs first.

Alternative Methods of Compliance

(c) An alternative method of compliance or adjustment of the compliance time that provides an acceptable level of safety may be used if approved by the Manager, Chicago Certification Office. Operators must submit their request through an appropriate FAA Principal Maintenance Inspector, who may add comments and then send it to the Manager, Chicago Certification Office.

Note 2: Information concerning the existence of approved alternative methods of compliance with this airworthiness directive, if any, may be obtained from the Chicago Certification Office.

Special Flight Permits

(d) Special flight permits may be issued in accordance with §§ 21.197 and 21.199 of the Federal Aviation Regulations (14 CFR 21.197 and 21.199) to operate the airplane to a location where the requirements of this AD can be done.

Documents That Have Been Incorporated by Reference

(e) The actions must be done in accordance with Hartzell Propeller Inc. Alert Service Bulletin HC-ASB-61-251, dated April 10, 2001. This incorporation by reference was approved by the Director of the Federal Register in accordance with 5 U.S.C. 552(a) and 1 CFR part 51. Copies may be obtained from Hartzell Propeller Inc. Technical Publications Department, One Propeller Place, Piqua, OH 45356; telephone (937) 778-4200; fax (937) 778-4391. Copies may be inspected at the FAA, New England Region, Office of the Regional Counsel, 12 New England Executive Park, Burlington, MA; or at the Office of the Federal Register, 800 North Capitol Street, NW., suite 700, Washington, DC.

Effective Date

(f) This amendment becomes effective on April 29, 2003.

Issued in Burlington, Massachusetts, on March 12, 2003.
Mark C. Fulmer,
Acting Manager, Engine and Propeller Directorate, Aircraft Certification Service.

[FR Doc. 03-6676 Filed 3-24-03; 8:45 am]

BILLING CODE 4910-13-P